DEPARTMENT OF COMMERCE

[Docket No. 000601163-0163-01]

RIN 0605-XX08

Privacy Act of 1974; System of Records

ACTION: Notice of Amendment of Privacy Act System of Records; Commerce/Dept System 1: Attendance, Leave, and Payroll Records of Employees and Certain Other Persons.

SUMMARY: In accordance with the Privacy Act (5 U.S.C. 552a(e)(4) and (11)), the Department of Commerce is issuing notice of our intent to amend the system of records under Commerce Department System 1: Attendance, Leave, and Payroll Records of Employees and Certain Other Persons to update the notification procedures.

DATES: Effective Date: The notification procedures will become effective without further notice on July 17, 2000 unless comments dictate otherwise.

Comment date: To be considered, written comments must be submitted on or before July 17, 2000.

FOR FURTHER INFORMATION CONTACT: Diane M. Atchinson, U.S. Department of Commerce, Room 5001, 14th & Constitution, Avenue, NW., Washington, DC 20230, 202-482-4425.

SUPPLEMENTARY INFORMATION: On March 10, 1999, the notification procedures changed for employees in the Office of the Secretary, Bureau of Economic Analysis, Bureau of Export Administration, Economic Development Agency, Minority Business Development Agency, and National Telecommunications and Information Administration employees in the Washington, D.C. metropolitan area. Also, on May 23, 1999, the notification procedures changed for the National Technical Information Service.

Brenda Dolan,
Department of Commerce, Freedom of Information/Privacy Act Officer.

Accordingly, the Attendance, Leave, and Payroll Records of Employees and Certain Other Persons system notice originally published at 46 FR 63502, December 31, 1981, and subsequently amended as published at 63 FR Doc. 98-6615 dated March 16, 1998, is amended by the following updates:

COMMERCE/DEPT-1

System name:

Attendance, Leave, and Payroll Records of Employees and Certain Other Persons.

System location:

For employees of the Office of the Secretary, Bureau of Economic Analysis, Bureau of Export Administration, Bureau of the Census, Economic Development Administration, Economics and Statistics Administration, International Trade Administration, Minority Business Development Agency, National Institute of Standards and Technology, National Oceanic and Atmospheric Administration, National Telecommunications and Information Administration, National Technical Information Service, Office of the Inspector General, Patent and Trademark Office, Technology Administration: National Finance Center, U.S. Department of Agriculture, PO Box 70160, New Orleans, Louisiana 70160.

For Census Field Representative employees: Field Administrative Payroll System, Bureau of the Census, Suitland, Maryland 20746.

Categories of individuals covered by the system: *

Categories of records in the system: *

Authority for maintenance of the system: *

Routine uses of records maintained in the system, including categories of users and the purposes of such uses: *

Disclosure to consumer reporting agencies: *

Policies and practices for storing, retrieving, accessing, retaining, and disposing of records in the system: *

System manager(s) and address:

National Finance Center, U.S. Department of Agriculture, PO Box 70160, New Orleans, Louisiana 70160.

Field Administrative Payroll System, Demographic and Decennial Census Staff, Bureau of the Census, Suitland, Maryland 20746.

Notification procedures:

For Economics and Statistics Administration and Bureau of the Census records of employees employed in the Washington, D.C., metropolitan area, a Census Regional Office, the Census Hagerstown Telephone Center and the Census Tucson Telephone Center, information may be obtained from: Bureau of the Census, Human Resources Division, ATTN: Chief, Pay, Processing and Systems Branch, Room 3254, FOB #3, Washington, D.C. 20233, (301) 457-3710.

For records of Census employees employed by the Jeffersonville Census Data Preparation Division, information may be obtained from: Bureau of the Census, Data Administration Preparation Division, ATTN: Chief, Human Resources Branch Room 113, Bldg. 66, Jeffersonville, Indiana 47132, (812) 218-3323.

For Patent and Trademark Office records, information may be obtained from: Human Resources Manager, U.S. Patent and Trademark Office, Box 3, Washington, D.C. 20231, (703) 305-8221.

For records of International Trade Administration employees employed in the Washington, D.C., metropolitan area, information may be obtained from: Human Resources Manager, Personnel Management Division, Room 4809, 14th & Constitution Avenue, N.W., Washington, D.C. 20230, (202) 482-3438.

For records of National Institute of Standards and Technology employees other than those employed in Colorado and Hawaii and for Technology Administration records, information may be obtained from: Personnel Officer, Office of Human Resources Management, Administration Building, Room A-123, Gaithersburg, Maryland 20899, (301) 975-3000.

For National Technical Information Service records, information may be obtained from: Human Resources Manager, 8001 Forbes Place, Suite 203, Springfield, Virginia 22161, (703) 605-6692.

For Office of the Inspector General records, information may be obtained from: Human Resources Manager, Resource Management Division, Room 7713, 14th & Constitution Avenue, N.W., Washington, D.C. 20230, (202) 482-4948.

For records of National Oceanic and Atmospheric Administration employees in the Washington, D.C., metropolitan area, information may be obtained from: Chief, Human Resources Services Division, National Oceanic and Atmospheric Administration, 1315 East-West Highway, Room 13619, Silver Spring, Maryland 20910, (301) 713-0524.

For records of Office of the Secretary, Bureau of Economic Analysis, Bureau of Export Administration, Economic Development Agency, Minority Business Development Agency, and National Telecommunications and Information Administration employees in the Washington, D.C., metropolitan area, information may be obtained from: Human Resources Manager, Office of Human Resources Services, Office of the Secretary, Room 5005, 14th & Constitution Avenue, N.W., Washington, D.C. 20230, (202) 482-3827.

For records of regional employees of National Oceanic and Atmospheric Administration, National Institute of Standards and Technology, Bureau of Export Administration, Economic Development Administration, Minority Business Development Agency, International Trade Administration, and National Telecommunications and Information Administration, information may be obtained from the Human Resources Manager servicing the region or state in which they are employed, as follows:

a. Central Region. For National Oceanic and Atmospheric Administration employees in the States of Arkansas, Florida, Georgia, Illinois, Indiana, Iowa, Kentucky, Louisiana, Michigan, Minnesota, Mississippi, Missouri, Ohio, Tennessee, and Wisconsin; for National Marine Fisheries Service employees in the States of North Carolina, South Carolina and Texas; and for National Weather Service employees in the States of Colorado, Kansas, Nebraska, North Dakota, South Dakota, and Wyoming; for employees in the Bureau of Export Administration, Economic Development Administration, Minority Business Development Agency, and International Trade Administration in the States of Arkansas, Connecticut, Illinois, Indiana, Iowa, Kansas, Kentucky, Louisiana, Maine, Massachusetts, Michigan, Minnesota, Mississippi, Missouri, Nebraska, New Hampshire, New York, Ohio, Oklahoma, Pennsylvania, Rhode Island, South Carolina, South Dakota, Tennessee, Texas, Vermont, and Wisconsin: Human Resources Manager, Central Administrative Support Center (CASC), Federal Building, Room 1736, 601 East 12th Street, Kansas City, Missouri 64106, (816) 426-2056.

b. Eastern Region. For National Oceanic and Atmospheric Administration employees in the States of Connecticut, Delaware, Maine, Maryland, Massachusetts, New Hampshire, New Jersey, New York, North Carolina, Ohio, Pennsylvania, Rhode Island, South Carolina, Vermont, Virginia, West Virginia, Puerto Rico, and the Virgin Islands; for employees in Bureau of Export Administration, Economic Development Administration, Minority Business Development Agency, and International Trade Administration in the States of Alabama, Delaware, Florida, Georgia, Maryland, New Jersey, New York, North Carolina, Pennsylvania, South Carolina, Tennessee, Virginia, West Virginia, Puerto Rico, and the Virgin Islands: Human Resources Manager, Eastern Administrative Support Center (EASC), National Oceanic and Atmospheric Administration EC, 200 World Trade Center, Norfolk, Virginia 23510, (757) 441-6517.

c. Mountain Region. For National Oceanic and Atmospheric Administration employees in the States of Alaska, Colorado, Florida, Hawaii, Idaho, and Oklahoma, at the South Pole and in American Samoa; and for the National Weather Service employees in the States of Alabama, Arkansas, Florida, Georgia, Louisiana, Mississippi, New Mexico, Oklahoma, Tennessee, Texas and in Puerto Rico; for employees in Bureau of Export Administration, Economic Development Administration, Minority Business Development Agency, National Institute of Standards and Technology, and National Telecommunications and Information Administration in the States of Arkansas, Colorado, Hawaii, Iowa, Louisiana, Missouri, Montana, South Dakota, Texas, Utah and Wisconsin: Human Resources Office, Mountain Administrative Support Center (MASC), MC22A, 325 Broadway, Boulder, Colorado 80303-3328, (303) 497-3578.

d. Western Region. For National Oceanic and Atmospheric Administration employees in the States of Arizona, California, Montana, Nevada, Oregon, Utah, Washington, and the Trust Territories; for employees in Bureau of Export Administration, Economic Development Administration, Minority Business Development Agency, and International Trade Administration in the States of Arizona, California, Nevada, Oregon, Utah, Washington, and the Trust Territories: Human Resources Manager, Western Administrative Support Center (WASC), National Oceanic and Atmospheric Administration WC2, 7600 Sand Point Way, NE, Bin C15700, Seattle, Washington 98115-0070, (206) 526-6057.

For all other records, information may be obtained from: Director for Human Resources Management, U.S. Department of Commerce, Room 5001, 14th & Constitution Avenue, N.W., Washington, D.C. 20230, (202) 482-4807.

Record access procedures: *

Contesting record procedures: *

Record source categories: *

*No changes are being made.

[FR Doc. 00-15236 Filed 6-15-00; 8:45 am]

BILLING CODE 3510-BS-P